DEPARTMENT OF TRANSPORTATION

Federal Aviation Administration

14 CFR Part 39

[Docket No. FAA-2015-4210; Directorate Identifier 2015-NM-067-AD; Amendment 39-18567; AD 2016-13-03]

RIN 2120-AA64

Airworthiness Directives; The Boeing Company Airplanes

AGENCY: Federal Aviation Administration (FAA), DOT.

ACTION: Final rule.

SUMMARY: We are adopting a new airworthiness directive (AD) for all The Boeing Company Model 767 airplanes. This AD was prompted by a determination that certain splice plate locations of the aft pressure bulkhead web are hidden and cannot be inspected using existing manufacturer service information. This AD requires repetitive open-hole high frequency eddy current (HFEC) inspections for cracking of the aft pressure bulkhead web. We are issuing this AD to detect and correct cracking in the aft pressure bulkhead web, which could result in rapid airplane decompression and loss of structural integrity.

DATES: This AD is effective August 1, 2016.

The Director of the Federal Register approved the incorporation by reference of a certain publication listed in this AD as of August 1, 2016.

ADDRESSES: For service information identified in this final rule, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-4210.

Examining the AD Docket

You may examine the AD docket on the Internet at http://www.regulations.gov by searching for and locating Docket No. FAA-2015-4210, or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Wayne Lockett, Aerospace Engineer, Airframe Branch, ANM-120S, FAA, Seattle Aircraft Certification Office (ACO), 1601 Lind Avenue SW., Renton, WA 98057-3356; phone: 425-917-6447; fax: 425-917-6590; email: wayne.lockett@faa.gov.

SUPPLEMENTARY INFORMATION:

Discussion

We issued a notice of proposed rulemaking (NPRM) to amend 14 CFR part 39 by adding an AD that would apply to all The Boeing Company Model 767 airplanes. The NPRM published in the Federal Register on October 30, 2015 (80 FR 66841) (“the NPRM”). The NPRM was prompted by a determination that certain splice plate locations of the aft pressure bulkhead web are hidden and cannot be inspected using existing manufacturer service information. The NPRM proposed to require repetitive open-hole HFEC inspections for cracking of the aft pressure bulkhead web. We are issuing this AD to detect and correct cracking in the aft pressure bulkhead web, which could result in rapid airplane decompression and loss of structural integrity.

Comments

We gave the public the opportunity to participate in developing this AD. The following presents the comments received on the NPRM and the FAA's response to each comment.

Support of the AD

FedEx, United Airlines, and United Parcel Service comments supported the NPRM.

Effect of Winglets on Accomplishment of the Proposed Actions

Aviation Partners Boeing stated that accomplishing the supplemental type certificate (STC) ST01920SE does not affect the actions specified in the NPRM.

We concur with the commenter. We have redesignated paragraph (c) of the proposed AD as (c)(1) and added a new paragraph (c)(2) to this AD to state that installation of STC ST01920SE (http://rgl.faa.gov/Regulatory_and_Guidance_Library/rgstc.nsf/0/59027f43b9a7486e86257b1d006591ee/$FILE/ST01920SE.pdf) does not affect the ability to accomplish the actions required by this final rule. Therefore, for airplanes on which STC ST01920SE is installed, a “change in product” alternative method of compliance (AMOC) approval request is not necessary to comply with the requirements of 14 CFR 39.17.

Request for Clarification of Applicability in the Service Information

Vision Airlines requested clarification on the effectivity in the service information. Vision Airlines stated that the airplane group numbers, line numbers, and configurations do not cover all airplanes that are identified in Boeing Alert Service Bulletin 767-53A0266, dated April 20, 2015. More specifically, Vision Airlines stated that there is no mention in paragraph 1.E., “Compliance,” of Boeing Alert Service Bulletin 767-53A0266, dated April 20, 2015, of airplane line numbers 1-175 that have not had the aft pressure bulkhead replaced. Vision Airlines did receive guidance from Boeing stating that line numbers 1-175 without the replaced aft pressure bulkhead should use Boeing Alert Service Bulletin 767-53A0026, Revision 5, dated January 29, 2004, which is mandated by AD 2005-03-11, Amendment 39-13967 (70 FR 7174, February 11, 2005); corrected March 11, 2005 (70 FR 12119).

We partially agree. We agree that the table on page 7 of Boeing Alert Service Bulletin 767-53A0266, dated April 20, 2015, may be confusing. However, page 7 is part of the Summary section of Boeing Alert Service Bulletin 767-53A0266, dated April 20, 2015, and is not mandated by this AD. This AD requires using the effectivity information specified in paragraph 1.E.,”Compliance” of Boeing Alert Service Bulletin 767-53A0266, dated April 20, 2015, which is correct in the identification of the Group 1 airplanes. The Group 1 airplanes are all line number 1-175 airplanes on which the aft pressure bulkhead was replaced in accordance with Boeing Alert Service Bulletin 767-53A0139, November 12, 2009. If any of these airplanes have not yet had the aft pressure bulkhead replaced as required by AD 2012-09-08, Amendment 39-17043, (77 FR 28240, May 14 2012) (“AD 2012-09-08”), then they are not yet a Group 1 airplane and are not subject to the requirements this of this AD until the aft pressure bulkhead is replaced. We have not changed this AD in this regard.

Request To Add ADs to Paragraph (b) of the Proposed AD

Boeing requested that we add AD 2004-05-16, Amendment 39-13511, (69 FR 10917, March 9, 2004) (“AD 2004-05-16”), AD 2012-09-08, and AD 2014-14-04, Amendment 39-17899 (79 FR 44673, August 1, 2014) (“AD 2014-14-04”) to paragraph (b) of the proposed AD. Boeing stated that these ADs do not specifically address the splice plate locations, but the inspection areas defined in these ADs can be interpreted to cover these locations. Boeing noted that Boeing Alert Service Bulletin 767-53A0266, dated April 20, 2015, provides information on FAA-approved AMOCs for ADs 2004-05-16, 2012-09-08, and 2014-14-04.

We partially agree. We agree that ADs 2004-05-16, 2012-09-08, and 2014-14-04 are “related” to this AD because Boeing Alert Service Bulletin 767-53A0266, dated April 20, 2015, provides information on FAA-approved AMOCs that could be used for compliance with ADs 2004-05-16, 2012-09-08, and 2014-14-04. However, we do not agree to revise paragraph (b) of this AD because it identifies “affected” ADs, and ADs 2004-05-16, 2012-09-08, and 2014-14-04 are not affected by the requirements of this AD. For example, the requirements of ADs 2004-05-16, 2012-09-08, and 2014-14-04 are not terminated by any requirements of this AD. We have not changed this AD in this regard.

Request for Clarification of the Terminating Actions in Paragraph (h) of the Proposed AD

Boeing requested that we clarify the terminating actions in paragraph (h) of the proposed AD. Boeing stated that the existing AD language is vague, and suggested changing the last sentence of paragraph (h) to specify the type of repair as a “reinforcing repair.” Boeing pointed out that Boeing Alert Service Bulletin 767-53A0266, dated April 20, 2015, provides information on specific AMOCs for existing repairs with damage tolerance evaluation and approval from Boeing. Boeing asserted that under the existing language non-reinforcing repairs such as hole enlargements and blending would terminate any inspections in the area and might not be correctly evaluated per 14 CFR 26.43.

We agree that non-reinforcing repairs are not an acceptable method to terminate the repetitive inspections. We have revised paragraph (h) of this AD accordingly.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Boeing Alert Service Bulletin 767-53A0266, dated April 20, 2015. The service information describes procedures for removing the aft row of fasteners from each of the splice plates and doing an open-hole HFEC inspection for cracking in the aft pressure bulkhead at station 1582. This service information is reasonably available because the interested parties have access to it through their normal course of business or by the means identified in the ADDRESSES section.

Costs of Compliance

We estimate that this AD affects 430 airplanes of U.S. registry.

We estimate the following costs to comply with this AD:

Estimated Costs
Action | Labor cost | Parts cost | Cost per product | Cost on U.S. operators
Repetitive inspections | Up to 46 work-hours × $85 per hour = $3,910 per inspection cycle | $0 | Up to $3,910 per inspection cycle | Up to $1,681,300 per inspection cycle.

We have received no definitive data that would enable us to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-13-03 The Boeing Company: Amendment 39-18567; Docket No. FAA-2015-4210; Directorate Identifier 2015-NM-067-AD.

(a) Effective Date

This AD is effective August 1, 2016.

(b) Affected ADs

None.

(c) Applicability

(1) This AD applies to all The Boeing Company Model 767-200, -300, -300F, and -400ER series airplanes, certificated in any category.

(2) Installation of Supplemental Type Certificate (STC) [STC ST01920SE (http://rgl.faa.gov/Regulatory_and_Guidance_Library/rgstc.nsf/0/59027f43b9a7486e86257b1d006591ee/$FILE/ST01920SE.pdf) does not affect the ability to accomplish the actions required by this AD. Therefore, for airplanes on which STC ST01920SE is installed, a “change in product” alternative method of compliance (AMOC) approval request is not necessary to comply with the requirements of 14 CFR 39.17.

(d) Subject

Air Transport Association (ATA) of America Code 53, Fuselage.

(e) Unsafe Condition

This AD was prompted by a determination that certain splice plate locations of the aft pressure bulkhead web are hidden and cannot be inspected using existing manufacturer service information. We are issuing this AD to detect and correct cracking in the aft pressure bulkhead web, which could result in rapid airplane decompression and loss of structural integrity.

(f) Compliance

Comply with this AD within the compliance times specified, unless already done.

(g) Inspections of Station (STA) 1582 Aft Pressure Bulkhead Web Under the Pressure Slice Plates

At the applicable times specified in Table 1 and Table 2 of paragraph 1.E., “Compliance,” of Boeing Alert Service Bulletin 767-53A0266, dated April 20, 2015, except as required by paragraph (i) of this AD: Do an open-hole high frequency eddy current (HFEC) inspection for cracking in the aft pressure bulkhead web at STA 1582, and do all applicable corrective actions, in accordance with the Accomplishment Instructions of Boeing Alert Service Bulletin 767-53A0266, dated April 20, 2015, except as required by paragraph (h) of this AD. Do all applicable corrective actions before further flight. Repeat the inspections thereafter at intervals not to exceed 12,000 flight cycles.

(h) Repair

If any crack is found during any inspection required by this AD, and Boeing Alert Service Bulletin 767-53A0266, dated April 20, 2015, specifies to contact Boeing for repair instructions: Before further flight, repair the crack in accordance with the procedures specified in paragraph (j) of this AD. Accomplishing a reinforcing repair terminates the inspections required by paragraph (g) of this AD in the area under the repair only.

(i) Exceptions to the Service Information

Where Boeing Alert Service Bulletin 767-53A0266, dated April 20, 2015, specifies a compliance time “after the original issue date of this service bulletin,” this AD requires compliance within the specified time after the effective date of this AD.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(4) Except as required by paragraph (h) of this AD: For service information that contains steps that are labeled as Required for Compliance (RC), the provisions of paragraphs (j)(4)(i) and (j)(4)(ii) apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(k) Related Information

For more information about this AD, contact Wayne Lockett, Aerospace Engineer, Airframe Branch, ANM-120S, FAA, Seattle Aircraft Certification Office (ACO), 1601 Lind Avenue SW., Renton, WA 98057-3356; phone: 425-917-6447; fax: 425-917-6590; email: wayne.lockett@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 767-53A0266, dated April 20, 2015.

(ii) Reserved.

(3) For service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on June 14, 2016.
Dionne Palermo,
Acting Manager, Transport Airplane Directorate, Aircraft Certification Service.

[FR Doc. 2016-14752 Filed 6-24-16; 8:45 am]

BILLING CODE 4910-13-P